NUCLEAR REGULATORY COMMISSION

General Electric Company; Vallecitos Nuclear Center; Notice of Public Meeting

AGENCY: Nuclear Regulatory Commission.

ACTION: Notice of public meeting.

The U.S. Nuclear Regulatory Commission (NRC) will conduct a public meeting on various aspects of the Commission's responsibilities for the regulation of the General Electric (GE) Vallecitos Nuclear Center in Sunol, California. The facility is operated by the General Electric Company, an NRC licensee. The objective of the meeting is to ensure that the public has knowledge about the activities that take place at Vallecitos, and understands the NRC's responsibilities in respect to these activities. The NRC staff will discuss these matters with the public, including answering questions and listening to public comments.

The meeting will be held the evening of Thursday, February 24, 2000, from 7:00 p.m. to 10:00 p.m. The meeting will be preceded by an informal open house beginning at 6:00 p.m. to allow the public an opportunity to talk with the NRC staff and other organizations such as citizen groups, and state and local government officials.

The meeting will be held at the Pleasanton Public Library in Pleasanton, California. The library is located at 400 Old Bernal Avenue, Pleasanton, California, 94566. The Library's main phone number is 925-931-3400.

FOR FURTHER INFORMATION CONTACT: Francis X. Cameron, Special Counsel for Public Liaison, U.S. Nuclear Regulatory Commission, Washington D.C. 20555, Telephone: 301-415-1642, email: fxc@nrc.gov.

SUPPLEMENTARY INFORMATION: The General Electric Company has been engaged since 1955 in various activities involving nuclear energy at the Vallecitos Nuclear Center located near Pleasanton, California. One of the ongoing activities is research and development on the physical and chemical analysis of irradiated reactor fuel at the facilities Radioactive Materials Laboratory. GE possesses a Special Nuclear Materials License from the NRC that authorizes them to perform this work. The work requires periodic shipments of irradiated nuclear fuel into the facility from various sites throughout the United States. The Vallecitos site also houses three permanently shutdown reactors, and an operating research reactor, licensed by the NRC. In addition, the facility also fabricates radioactive sources used in medicine and industry under a license issued by the State of California.

The NRC previously held a public meeting on the Vallecitos facility on October 20, 1999, in Livermore, California. In order to ensure that the public has the necessary information about the facility, and to provide sufficient time for public discussion of this information, the NRC has scheduled an additional public meeting on the Vallecitos facility for February 24, 2000. The NRC staff will address the issues previously covered at the October 20, 1999, meeting, and also provide additional information on issues that were raised by the public at the October 20, 1999, meeting. A detailed agenda for the meeting will be available at the meeting. Anticipated topics are the research and development activities involving the NRC Special Nuclear Materials license at the facility, related radioactive materials transportation activities, the status of the permanently shutdown reactors and the operating research reactor at the facility, and related NRC inspection activities. Francis X. Cameron, Special Counsel for Public Liaison, at the NRC will serve as the facilitator for the meeting.

Dated at Rockville, Maryland, this 8th day of February, 2000.
For the Nuclear Regulatory Commission.
Theodore S. Sherr,
Chief, Licensing and International Safeguards Branch, Office of Nuclear Materials Safety and Safeguards.

[FR Doc. 00-3479 Filed 2-11-00; 8:45 am]

BILLING CODE 7590-01-P